DEPARTMENT OF COMMERCE

International Trade Administration

[A-351-857]

Raw Honey From Brazil: Notice of Court Decision Not in Harmony With the Final Determination of Antidumping Duty Investigation; Notice of Amended Final Determination; Notice of Amended Antidumping Duty Order

AGENCY: Enforcement and Compliance, International Trade Administration, Department of Commerce.

SUMMARY: On January 24, 2025, the U.S. Court of International Trade (CIT) issued its final judgment in Apiário Diamante Comercial Exportadora Ltda. and Apiário Diamante Produção e Comercial de Mel Ltda. v. United States, Court No. 22-00185, sustaining the U.S. Department of Commerce (Commerce)'s first remand redetermination pertaining to the antidumping (AD) duty investigation of raw honey (honey) from Brazil covering the period of investigation April 1, 2020, through March 31, 2021. Commerce is notifying the public that the CIT's final judgment is not in harmony with Commerce's final determination in the investigation, and that Commerce is amending the final determination and the resulting AD order with respect to the dumping margins assigned to Apiário Diamante Comercial Exportadora Ltda/Apiário Diamante Produção e Comercial de Mel Ltda (Supermel) and all other producers and/or exporters of subject merchandise.

DATES: Applicable February 3, 2025.

FOR FURTHER INFORMATION CONTACT: Miranda Bourdeau, AD/CVD Operations, Office V, Enforcement and Compliance, International Trade Administration, U.S. Department of Commerce, 1401 Constitution Avenue NW, Washington, DC 20230; telephone: (202) 482-2021.

SUPPLEMENTARY INFORMATION:

Background

On April 14, 2022, Commerce published its Final Determination in the less-than-fair value investigation of honey from Brazil.¹ In its Final Determination, Commerce found that Supermel: (1) failed to provide requested source documentation; ² and (2) supplied cost of production (COP) data that were irreconcilable to the information supplied by its raw honey suppliers.³ Accordingly, Commerce found that Supermel's COP data were unverifiable and that Supermel failed to act to the best of its ability in responding to Commerce's requests for information. Commerce declined to rely on Supermel's COP data for the Final Determination and, instead, Commerce relied entirely on facts otherwise available with adverse inferences (AFA) for assigning an estimated dumping margin to Supermel.⁴ Because the only rate from the Final Determination that was not zero, de minimis, or based entirely on AFA was the rate calculated for another respondent, the rate calculated for the other respondent was also assigned as the rate for all other producers and exporters.⁵ Commerce subsequently published the AD order on honey from Brazil.⁶

¹ See Raw Honey from Brazil: Final Determination of Sales at Less Than Fair Value, 87 FR 22182 (April 14, 2022) (Final Determination), and accompanying Issues and Decision Memorandum (IDM).

² See Final Determination IDM at 12-17.

³ Id. at 12-14.

⁴ See Final Determination, 87 FR at 22183.

⁵ Id.

⁶ See Raw Honey from Argentina, Brazil, India, and the Socialist Republic of Vietnam: Antidumping Duty Orders, 87 FR 35501 (June 10, 2022) (Order).

Supermel appealed Commerce's Final Determination. On June 5, 2024, the CIT remanded the Final Determination to Commerce, holding that the discrepancies between Supermel's reported COP data and its suppliers' COP data were: (1) relatively minor; (2) understandable given the beekeepers' lack of recordkeeping; and (3) unnecessary for verifying Supermel's COP information, given that copious information already existed on the record that Commerce could have used to support relying on Supermel's COP.⁷ The CIT remanded the Final Determination to Commerce to reconsider, based on the existing record, its decision to apply AFA to Supermel and to determine a new estimated dumping margin for Supermel.⁸

⁷ See Apiário Diamante Comercial Exportadora Ltda. and Apiário Diamante Produção e Comercial de Mel Ltda. v. United States, Court No. 22-00185, Slip Op. 24-64 (CIT June 5, 2024) at 15-16.

⁸ Id. at 43.

In its remand redetermination, issued in August 2024, Commerce relied on the information already in existence on the record to support Supermel's COP, and therefore Commerce calculated estimated weighted-average dumping margins for Supermel and all other producers and/or exporters rather than relying on AFA.⁹ The CIT sustained Commerce's final redetermination.¹⁰

⁹ See Final Results of Redetermination Pursuant to Court Remand, Apiário Diamante Comercial Exportadora Ltda. and Apiário Diamante Produção e Comercial de Mel Ltda. v. United States, Court No. 22-00185, Slip Op. 24-64 (CIT June 5, 2024), dated August 26, 2024.

¹⁰ See Apiário Diamante Comercial Exportadora Ltda. and Apiário Diamante Produção e Comercial de Mel Ltda. v. United States, Court No. 22-00185, Slip Op. 25-10 (CIT January 24, 2025).

Timken Notice

In its decision in Timken,¹¹ as clarified by Diamond Sawblades,¹² the Court of Appeals for the Federal Circuit held that, pursuant to section 516A(c) and (e) of the Tariff Act of 1930, as amended (the Act), Commerce must publish a notice of court decision that is not “in harmony” with a Commerce determination and must suspend liquidation of entries pending a “conclusive” court decision. The CIT's January 24, 2025, judgment constitutes a final decision of the CIT that is not in harmony with Commerce's Final Determination. Thus, this notice is published in fulfillment of the publication requirements of Timken.

¹¹ See Timken Co. v. United States, 893 F.2d 337 (Fed. Cir. 1990) (Timken).

¹² See Diamond Sawblades Manufacturers Coalition v. United States, 626 F.3d 1374 (Fed. Cir. 2010) (Diamond Sawblades).

Amended Final Determination

Because there is now a final court judgment, Commerce is amending its Final Determination with respect to Supermel and all other producers and/or exporters as follows:

Exporter | Estimated weighted-average dumping margin (percent)
Apiário Diamante Comercial Exportadora Ltda/Apiário Diamante Produção e Comercial de Mel Ltda (Supermel) | 10.52
All Others | 9.38

Amended AD Order

Pursuant to 735(c)(2) of the Act, Commerce shall “issue an antidumping duty order under section 736(a)” of the Act when the final determination is affirmative. As a result of this amended final determination, Commerce is hereby amending the Order to revise the estimated weighted-average dumping margins assigned to Supermel and all-other producers and/or exporters of subject merchandise, as noted above.

Cash Deposit Requirements

Because Supermel does not have a superseding cash deposit rate, i.e., there have been no final results published in a subsequent administrative review, and because of the change to the rate assigned to all other producers and exporters of subject merchandise, Commerce will issue revised cash deposit instructions to U.S. Customs and Border Protection.

Notification to Interested Parties

This notice is issued and published in accordance with sections 516A(c) and (e) and 777(i)(1) of the Act.

Dated: February 4, 2025.
Abdelali Elouaradia,
Deputy Assistant Secretary for Enforcement and Compliance.

[FR Doc. 2025-02416 Filed 2-7-25; 8:45 am]

BILLING CODE 3510-DS-P